DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9:00 a.m., on the dates specified:

The plat representing the dependent resurvey of a portion of the subdivisional lines and the subdivision of section 13, T. 8 S., R. 1 E, Boise Meridian, Idaho, Group 1041, was accepted October 18, 1999. This survey was executed to meet certain administrative needs of the Bureau of Land Management.

The plat representing the dependent resurvey of a portion of the subdivisional lines and of the subdivision of section 24, and a metes-and-bounds survey within section 24, T. 12 S., R. 20 E., Boise Meridian, Idaho, Group 1037, was accepted October 18, 1999. This survey was executed to meet certain administrative needs of the Bureau of Land Management.

The field notes representing the remonumentation of a mineral survey corner for mineral survey numbers 257 and 258, T. 3 N., R. 15 E., Boise Meridian, Idaho, Group 1000, was accepted November 18, 1999. This survey was executed to meet certain administrative needs of the Bureau of Land Management.

The plat representing the dependent resurvey of a portion of the subdivisional lines and the subdivision of section 16, T. 31 N., R. 4 E., Boise Meridian, Idaho, Group 1031, was accepted December 17, 1999. This survey was executed to meet certain administrative needs of the Bureau of Indian Affairs, Northern Idaho Agency.

The plat representing the dependent resurvey of a portion of the First Standard Parallel North (south boundary, Township 6 North, Range 6 East) and a portion of the subdivisional lines, and the subdivision of sections 4 and 10, T. 5 N., R. 6 E., Boise Meridian, Idaho, Group 927, was accepted on December 17, 1999. The plat was prepared to meet certain administrative needs of the USDA, Forest Service, Payette National Forest.

FOR FURTHER INFORMATION CONTACT: Duane Olsen, Chief, Cadastral Survey, Idaho State Office, Bureau of Land Management, 1387 South Vinnell Way, Boise, Idaho, 83709-1657, 208-373-3980.

Dated: February 7, 2000.
Duane E. Olsen,
Chief, Cadastral Surveyor for Idaho.

[FR Doc. 00-3960 Filed 2-17-00; 8:45 am]

BILLING CODE 4310-GG-P